FEDERAL COMMUNICATIONS COMMISSION

47 CFR Part 73

[DA 96-1004; MM Docket No. 94-125; RM-8534, RM-8575]

Radio Broadcasting Services; Castroville, Fredericksburg, and Helotes, TX

AGENCY: Federal Communications Commission.

ACTION: Correcting amendments.

SUMMARY: This document contains corrections to section 73.202(b), FM Table of Allotments under Texas for the communities of Fredericksburg and Helotes, which were published in the Federal Register of Monday, July 22, 1996, (61 FR 37840).

DATES: Effective January 28, 2003.

FOR FURTHER INFORMATION CONTACT: Robert Hayne, Media Bureau, (202) 418-2177.

SUPPLEMENTARY INFORMATION:

Background

The Commission's Memorandum Opinion and Order, MM Docket No. 94-125, adopted June 28, 1996, and released July 5, 1996, rescinded the Report and Order in this proceeding, see 60 FR 322298, published June 21, 1995. The Memorandum Opinion and Order granted the Petition for Reconsideration filed by October Communications Group, Inc directed to the Report and Order in this proceeding, by reallotting Channel 266C from Fredericksburg, Texas, to Helotes, Texas, and modified the license of Station KONO-FM, Channel 266C, Fredericksburg, Texas, to specify Helotes, Texas as the community of license. On October 30, 1998, Station KONO-FM was granted a license (BLH-19980731KB) to specify operation on Channel 266C1 in lieu of Channel 266C at Helotes, Texas.

Need for Correction

As published, the amendatory language was omitted from the summary.

List of Subjects in 47 CFR Part 73

Radio, Radio broadcasting.

Accordingly, 47 CFR part 73 is corrected by making the following correcting amendments:

PART 73—RADIO BROADCAST SERVICES

1. The authority citation for part 73 continues to read as follows:

Authority: 47 U.S.C. 154, 303, 334 and 336.

§ 73.202 [Amended]

2. Section 73.202(b), the Table of FM Allotments under Texas, is amended by removing Fredericksburg, Channel 266C and by adding Helotes, Channel 266C1.

Dated: January 23, 2003.
John A. Karousos,
Assistant Chief, Audio Division, Media Bureau.

[FR Doc. 03-1836 Filed 1-27-03; 8:45 am]

BILLING CODE 6712-01-P